DEPARTMENT OF THE INTERIOR

National Park Service

Notice of Inventory Completion: Kitsap County Coroner's Office, Port Orchard, WA

AGENCY: National Park Service, Interior.

ACTION: Notice.

Notice is here given in accordance with the Native American Graves Protection and Repatriation Act (NAGPRA), 25 U.S.C. 3003, of the completion of an inventory of human remains in the possession of the Kitsap County Coroner's Office, Port Orchard, WA. The human remains are believed to have been removed from Bremerton, Kitsap County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Kitsap County Coroner's Office professional staff in consultation with representatives of the Suquamish Indian Tribe of the Port Madison Reservation, Washington.

Prior to 1998, human remains representing a minimum of two individuals were removed from an unknown site in Bremerton, Kitsap County, WA. There is limited information regarding the circumstances surrounding the removal of the human remains. The human remains are believed to have been removed from private residential property in Bremerton, however, research of archived records reveals no documentation detailing the event. The property owner allegedly brought the human remains to the Kitsap County Coroner's Office where they have since been housed. No known individuals were identified. No associated funerary objects are present.

The human remains have been determined to be Native American based on morphology. The geographical area from which the remains are presumed to have been removed indicates affiliation with the Suquamish Indian Tribe of the Port Madison Reservation, Washington. Historical evidence presented during consultation supports this determination.

Officials of the Kitsap County Coroner's Office have determined that, pursuant to 25 U.S.C. 3001 (9-10), the human remains listed above represent the physical remains of a minimum of two individuals of Native American ancestry. Officials of the Kitsap County Coroner's Office also have determined that, pursuant to 25 U.S.C. 3001 (2), there is a relationship of shared group identity that can be reasonably traced between the Native American human remains and the Suquamish Indian Tribe of the Port Madison Reservation, Washington.

Representatives of any other Indian tribe that believes itself to be culturally affiliated with the human remains should contact Louise Hall, Chief Deputy Coroner, Kitsap County Coroner's Office, 714 Division Street MS-17, Port Orchard, WA 98366, telephone (360) 337-5603, before September 26, 2005. Repatriation of the human remains to the Suquamish Indian Tribe of the Port Madison Reservation, Washington may proceed after that date if no additional claimants come forward.

Kitsap County Coroner's Office is responsible for notifying the Suquamish Indian Tribe of the Port Madison Reservation, Washington that this notice has been published.

Dated: July 22, 2005.
Sherry Hutt,
Manager, National NAGPRA Program.

[FR Doc. 05-16879 Filed 8-24-05; 8:45 am]

BILLING CODE 4312-50-S